DEPARTMENT OF THE INTERIOR

National Park Service

[NPS-WASO-NRNHL-23215; PPWOCRADI0, PCU00RP14.R50000]

National Register of Historic Places; Notification of Pending Nominations and Related Actions

AGENCY: National Park Service, Interior.

ACTION: Notice.

SUMMARY: The National Park Service is soliciting comments on the significance of properties nominated before April 1, 2017, for listing or related actions in the National Register of Historic Places.

DATES: Comments should be submitted by May 15, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before April 1, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

NEW YORK

Albany County

Tilley, John S., Ladders Company, 122 2nd St., Watervliet, SG100000993

Bronx County

Reformed Church of Melrose, 746 Elton Ave., Bronx, SG100000994

Dutchess County

Winans-Huntting House, 51 Bethel Cross Rd., Pine Plains, SG100000995

Essex County

Henry's Garage, 14 Church St., Port Henry, SG100000996

New York County

P.S. 186, 521 W. 145th St., New York, SG100000997

Suffolk County

Southold Milestone 7, (Southold Town Milestones MPS), 450 Franklinville Rd., Laurel, MP100000999

Nominations submitted by Federal Preservation Officers:

FLORIDA

Escambia County

Pensacola Harbor Defense Project, W. end of Santa Rosa Island, Pensacola, SG100000992

The State Historic Preservation Officer reviewed the nomination and responded to the Federal Preservation Officer within 45 days of receipt of the nomination and supports listing the property in the National Register of Historic Places.

Authority: 60.13 of 36 CFR part 60.

Dated: April 4, 2017.
J. Paul Loether,
Chief, National Register of Historic Places/National Historic Landmarks Program.

[FR Doc. 2017-08557 Filed 4-27-17; 8:45 am]

BILLING CODE 4312-52-P